DEPARTMENT OF EDUCATION

[CFDA 84.195N]

Applications for New Awards; National Professional Development Program

AGENCY: Office of English Language Acquisition, Language Enhancement, and Academic Achievement for Limited English Proficient Students, Department of Education.

ACTION: Correction; CFDA number and extension; Notice extending the dates.

SUMMARY: On March 18, 2011, we published in the Federal Register (76 FR 14954-14959) a notice inviting applications for new awards for fiscal year (FY) 2011 for the National Professional Development Program. This notice makes corrections to the CFDA number referenced in the March 18 notice and extends the deadline date for transmittal of applications. We are extending the deadline date for this competition because the CFDA numbers identified in the March 18, 2011 notice were incorrect.

FOR FURTHER INFORMATION CONTACT: Ana Garcia. Telephone: (202) 401-1440 or by e-mail: Ana.garcia@ed.gov. If you use a telecommunications device for the deaf (TDD), call the Federal Relay Service (FRS), toll free, at 1-800-877-8339.

SUPPLEMENTARY INFORMATION: The CFDA numbers identified in the March 18 notice were incorrect. Through this notice, we correct the references to “84.195N” in the second column of page 14954, in the third column of page 14955, in the second and third columns of page 14956, and in the third column of page 14957 to read as “84.365Z”. We also correct the reference to CFDA number “84.195” in the third column of page 14956 to read as “84.365”.

In addition, the Deadline for Transmittal of Applications, listed in the second column of page 14954 and the first column of 14956, has been extended to May 9, 2011.

The Deadline for Intergovernmental Review date, listed in the second column of page 14954 and the first column of page 14956, has been extended to July 11, 2011.

The Applications Available date as published on page 14954 has been changed to April 4, 2011. Applicants, when submitting their proposals, should ensure that they use the correct CFDA number for this program.

Note: Applications for grants under this program must be submitted electronically using the Government-wide Grants.gov apply site at http://www.Grants.gov. For information (including dates and times) about how to submit your application electronically, or in paper format by mail or hand delivery if you qualify for an exception to the electronic submission requirement, please refer to section IV. 7. Other Submission Requirements of the March 18 notice.

Accessible Format: Individuals with disabilities can obtain this document in an accessible format (e.g., braille, large print, audiotape, or computer diskette) on request to the program contact person listed under FOR FURTHER INFORMATION CONTACT.

Electronic Access to This Document: You can view this document, as well as all other documents of this Department published in the Federal Register, in text or Adobe Portable Document Format (PDF) on the Internet at the following site: http://www.ed.gov/news/fedregister. To use PDF you must have Adobe Acrobat Reader, which is available free at this site.

Note: The official version of this document is the document published in the Federal Register. Free Internet access to the official edition of the Federal Register and the Code of Federal Regulations is available via the Federal Digital System at: http://www.gpo.gov/fdsys.

Dated: March 30, 2011.
Rosalinda Barrera,
Assistant Deputy Secretary and Director for English Language Acquisition, Language Enhancement and Academic Achievement for Limited English Proficient Students.

[FR Doc. 2011-7941 Filed 4-1-11; 8:45 am]

BILLING CODE 4000-01-P